Presidential Determination No. 2007-34 of September 28, 2007

Presidential Determination on Energy Assistance for the Democratic People's Republic of Korea

Memorandum for the Secretary of State

Pursuant to the authority vested in me by section 610(a) of the Foreign Assistance Act of 1961, as amended (the “Act”), I hereby determine that it is necessary for the purposes of the Act that $25 million in FY07 funds available for assistance for Eastern Europe and the Baltic States under the Act and the Support for East European Democracy (SEED) Act be transferred to and consolidated with funds made available for chapter 4 of part II of the Act, and such funds are hereby transferred and consolidated.

In addition, pursuant to the authority vested in me by section 614(a)(1) of the Act, I hereby determine that it is important to the security interests of the United States to furnish up to $25 million in funds made available pursuant to chapter 4 of part II of the Act, comprised of funds transferred pursuant to this determination, for energy assistance for the Democratic People's Republic of Korea without regard to any provision of law within the purview of section 614(a)(1) of the Act. I hereby authorize the furnishing of this assistance.

You are hereby authorized and directed to transmit this determination to the Congress and to arrange for its publication in the Federal Register.

THE WHITE HOUSE,

Washington, September 28, 2007.

[FR Doc. 07-4953

Filed 10-3-07; 8:45 am]

Billing code 4710-10-P